DEPARTMENT OF COMMERCE

International Trade Administration

(A-549-822)

Certain Frozen Warmwater Shrimp from Thailand: Partial Rescission of Antidumping Duty Administrative Review

AGENCY: Import Administration, International Trade Administration, Department of Commerce.

SUMMARY: The Department of Commerce (the Department) is rescinding the administrative review of the antidumping duty order on certain frozen warmwater shrimp from Thailand for the period February 1, 2007, through January 31, 2008, for 29 companies, based on: 1) timely withdrawals of the review requests; and 2) confirmed statements of no shipments during the period of review (POR).

EFFECTIVE DATE: December 19, 2008.

FOR FURTHER INFORMATION CONTACT: Kate Johnson, AD/CVD Operations, Office 2, Import Administration, International Trade Administration, U.S. Department of Commerce, 14th Street and Constitution Avenue, NW, Washington, DC 20230; telephone: (202) 482-4929.

SUPPLEMENTARY INFORMATION:

Background

On February 4, 2008, the Department published in the Federal Register a notice of opportunity to request an administrative review of the antidumping duty order on certain frozen warmwater shrimp from Thailand for the period February 1, 2007, through January 31, 2008. See Antidumping or Countervailing Duty Order, Finding, or Suspended Investigation; Opportunity to Request Administrative Review, 73 FR 6477 (February 4, 2008). The Department received timely requests from the petitioner,¹ the Louisiana Shrimp Association (LSA), and certain individual companies, in accordance with 19 CFR 351.213(b), during the anniversary month of February 2008, for administrative reviews of the antidumping duty order on shrimp from Thailand.

On April 7, 2008, the Department initiated an administrative review for 165 companies. See Certain Frozen Warmwater Shrimp from Brazil, Ecuador, India, and Thailand: Notice of Initiation of Administrative Reviews, 73 FR 18754 (April 7, 2008).

Between March and May 2008, the Department received submissions from certain companies that indicated they had no shipments of subject merchandise to the United States during the POR.

On July 7, 2008, in accordance with 19 CFR 351.213(d)(1), the petitioner withdrew its request for review for the following eighteen companies: Anglo-Siam Seafoods Co., Ltd.; Applied DB Ind; Chonburi LC; Gallant Ocean (Thailand) Co., Ltd. (Gallant Ocean)²; Haitai Seafood Co., Ltd.; High Way International Co., Ltd.; Li-Thai Frozen Foods Co., Ltd.; Merkur Co., Ltd.; Ming Chao Ind Thailand; Nongmon SMJ Products; Queen Marine Food Co., Ltd.; SCT Co., Ltd.; Search & Serve; Smile Heart Foods Co., Ltd.; Shianlin Bangkok Co., Ltd.; Star Frozen Foods Co., Ltd.; Thai World Imports & Exports; and Wann Fisheries Co., Ltd.

² Gallant Ocean has not withdrawn its February 29, 2008, request for review.

On October 27, 2008, the Department issued a memorandum indicating that it intended to rescind the administrative review with respect to 29 respondent companies, and it invited comments on this action from interested parties. See October 27, 2008, Memorandum to The File from Kate Johnson titled “Intent to Rescind in Part the Antidumping Duty Administrative Review on Certain Frozen Warmwater Shrimp from Thailand” (Intent to Rescind Memorandum). On November 3, 2008, and November 13, 2008, the Department received comments from 32 U.S. producers opposing the rescission with respect to the companies for which the petitioner withdrew its review request. On November 6, 2008, the petitioner responded to the comments filed on November 3, 2008.

Partial Rescission of Review

Pursant to 19 CFR 351.213(d)(1), the Secretary will rescind an administrative review, in whole or in part, if a party requesting a review withdraws the request within 90 days of the date of publication of the notice of initiation. Therefore, because all requests for administrative reviews were timely withdrawn for the following companies, in accordance with 19 CFR 351.213(d)(1), we are rescinding this review with regard to these companies: 1) Anglo-Siam Seafoods Co., Ltd.; 2) Applied DB Ind; 3) Chonburi LC; 4) Haitai Seafood Co., Ltd.; 5) High Way International Co., Ltd.; 6) Li-Thai Frozen Foods Co., Ltd.; 7) Merkur Co., Ltd.; 8) Ming Chao Ind Thailand; 9) Nongmon SMJ Products; 10) Queen Marine Food Co., Ltd.; 11) SCT Co., Ltd.; 12) Search & Serve; 13) Smile Heart Foods Co., Ltd.; 14) Shianlin Bangkok Co., Ltd.; 15) Star Frozen Foods Co., Ltd.; 16) Thai World Imports & Exports; and 17) Wann Fisheries Co., Ltd. As noted above, the review requested by Gallant Ocean has not been withdrawn. Therefore, we are not rescinding the review with respect to this company.

In addition, in accordance with 19 CFR 351.213(d)(3), we are rescinding the review with respect to the following ten companies which submitted letters indicating that they had no shipments of subject merchandise during the POR: 1) Dynamic Intertransport Co., Ltd.; 2) Lucky Union Foods Co., Ltd.; 3) MKF Interfood (2004) Co., Ltd.; 4) NR. Instant Produce Co., Ltd.; 5) Siam Canadian Foods Co., Ltd.; 6) Sky Fresh Co., Ltd.; 7) Songkla Canning (PCL); 8) Surat Seafoods Co., Ltd.; 9) Tep Kinsho Foods Co., Ltd.; and 10) Thai Excel Foods Co., Ltd. We reviewed U.S. Customs and Border Protection (CBP) data and confirmed that there were no entries of subject merchandise from any of these companies. Consequently, in accordance with 19 CFR 351.213(d)(3) and consistent with our practice, we are rescinding our review for the companies listed above. See, e.g., Certain Steel Concrete Reinforcing Bars From Turkey; Final Results and Rescission of Antidumping Duty Administrative Review in Part, 71 FR 65082, 65083 (November 7, 2006).

Finally, the Department received no-shipment responses from the following companies for which there appeared to be U.S. customs entries of subject merchandise: 1) Grobest Frozen Foods Co., Ltd.; and 2) Thai Union Manufacturing Co., Ltd. We requested data on the relevant entries from CBP and determined that the entries made by Grobest Frozen Foods Co., Ltd. and Thai Union Manufacturing Co., Ltd. were not reportable transactions because they were either: 1) free samples; or 2) sales made by another producer/exporter. Therefore, in accordance with 19 CFR 351.213(d)(3), and consistent with the Department's practice, we are rescinding the review with respect to these two companies. See, e.g., Certain Steel Concrete Reinforcing Bars from Turkey; Final Results, Rescission of Antidumping Duty Administrative Review in Part, and Determination to Revoke in Part, 70 FR 67665, 67666 (November 8, 2005).

On November 3, 2008, the Department received comments from 32 U.S. producers regarding the Department's Intent to Rescind Memorandum. In these comments, the U.S. producers objected to the petitioner's July 7, 2008, filing withdrawing its request for administrative reviews for certain Thai producers/exporters because: 1) these domestic producers, three of which were previously part of the Ad Hoc Shrimp Trade Action Committee, have retained their own counsel; and 2) as a result, the Ad Hoc Shrimp Trade Action Committee no longer represents the majority of the U.S. domestic industry. Thus, the U.S. producers requested that the Department not rescind the administrative reviews for the companies for which the petitioner withdrew its request. On November 6, 2008, the petitioner responded to the U.S. producers' comments by stating that all actions in the review were taken on behalf of the Ad Hoc Shrimp Trade Action Committee as a corporate entity, not on behalf of the individual members, and thus it urged the Department to disregard the U.S. producers' request.

After considering the U.S. producers' November 3, 2008, submission, we disagree with the arguments made by these companies. The request for administrative review at issue was made by the Ad Hoc Shrimp Trade Action Committee, which is an interested party to this proceeding under section 771(9)(E) of the Tariff Act of 1930, as amended (the Act) (i.e., the subsection applicable to trade associations). Contrary to the U.S. producers' assertions, this section of the Act does not require a trade association to represent a majority of the industry producing the domestic like product, but rather it merely requires a majority of the association's members to manufacture, produce, or wholesale a domestic like product in the United States. Further, 19 CFR 351.213(b)(1) does not require that a domestic interested party represent the majority of the domestic industry before it may request a review. In this case, both the administrative review requests and the corresponding withdrawal of certain of these requests were made on behalf of the Ad Hoc Shrimp Trade Action Committee, not the individual members of this group. Consequently, because the U.S. producers involved in the November 3, 2008, filing did not request any administrative reviews in this segment of the proceeding, we find that their objection to the petitioner's withdrawal of its request for administrative reviews of certain Thai producers/exporters does not provide a basis for the Department to maintain the review request for these companies.

Assessment

The Department intends to issue assessment instructions to CBP 15 days after the date of publication of this partial rescission of administrative review. The Department will direct CBP to assess antidumping duties at the cash deposit rate in effect on the date of entry for POR entries of the subject merchandise produced/exported by the companies for which we are rescinding the review based on the timely withdrawal of review requests.

With respect to POR entries of subject merchandise produced by companies for which we are rescinding the review based on certifications of no-shipments, because these companies certified that they made no POR shipments of subject merchandise for which they had knowledge of U.S. destination, we will instruct CBP to liquidate these entries at the all-others rate established in the less-than-fair-value investigation if there is no rate for the intermediary (e.g., a reseller, trading company, or exporter) involved in the transaction. See Antidumping and Countervailing Duty Proceedings: Assessment of Antidumping Duties, 68 FR 23954 (May 6, 2003).

Notification to Importers

This notice serves as a reminder to importers for whom this review is being rescinded, of their responsibility under 19 CFR 351.402(f) to file a certificate regarding reimbursement of antidumping duties prior to liquidation of the relevant entries during this review period. Failure to comply with this requirement could result in the Secretary's presumption that reimbursement of antidumping duties occurred and the subsequent assessment of double antidumping duties.

This notice is published in accordance with section 777(i) of the Act and 19 CFR 351.213(d)(4).

Dated: December 15, 2008.
Gary Taverman,
Acting Deputy Assistant Secretary for Antidumping and Countervailing Duty Operations.

[FR Doc. E8-30277 Filed 12-18-09; 8:45 am]

BILLING CODE 3510-DS-S